FEDERAL ACCOUNTING STANDARDS ADVISORY BOARD

New Exposure Draft Inter-Entity Cost Implementation: Amending SFFAS 4, Managerial Cost Accounting Standards and Concept and Research Report on Capital and Operating Leases

AGENCY: Federal Accounting Standards Advisory Board.

ACTION: Notice.

Board Action: Pursuant to the Federal Advisory Committee Act (Pub. L. 92-463), as amended, and the FASAB Rules of Procedure, as amended in October, 1999, notice is hereby given that the Federal Accounting Standards Advisory Board (FASAB) has published a new exposure draft, Inter-Entity Cost Implementation: Amending SFFAS 4, Managerial Cost Accounting Standards and Concepts and a Research Report on Capital and Operating Leases.

A summary of the proposed statement follows:

On April 26, 2004, the Federal Accounting Standards Advisory Board (FASAB) released for public comment an exposure draft (ED), Inter-Entity Cost Implementation: Amending SFFAS 4, Managerial Cost Accounting Standards and Concepts. The proposed standard would require full implementation of the inter-entity cost provision in Statement of Federal Financial Accounting Standards (SFFAS) 4, Managerial Cost Accounting Standards and Concepts.

The exposure draft is available on the FASAB home page http://www.fasab.gov/exposure draft.htm. Copies can be obtained by contacting FASAB at (202) 512-7350, or comesw@fasab.gov.

Respondents are encouraged to comment on any part of the exposure draft. Written comments are requested by July 31, 2004, and should be sent to: Wendy M. Comes, Executive Director, Federal Accounting Standards Advisory Board, 441 G Street, NW., Suite 6814, Mal Stop 6K17V, Washington, DC 20548.

A summary of the research report follows:

The objective of the research report is to develop a summary paper that permits staff and the Board to familiarize themselves with lease accounting under FASAB, FASB, GASB and international public sector accounting standards, and to familiarize them with global issues related to lease accounting. The report will also be used to aid in determining if new uses of leases by Federal entities create different and/or more urgent needs for FASAB guidance. An electronic version of the research report is available on the World Wide Web at http://www.fasab.gov/reports.html.

FOR FURTHER INFORMATION CONTACT: Wendy Comes, Executive Director, 441 G Street, NW., Washington, DC 20548, or call (202) 512-7350.

Authority: Federal Advisory Committee Act, Pub. L. 92-463.

Dated: May 10, 2004.
Wendy M. Comes,
Executive Director.

[FR Doc. 04-10929 Filed 5-13-04; 8:45 am]

BILLING CODE 1610-01-M